SECURITIES AND EXCHANGE COMMISSION

Submission for OMB Review; Comment Request

Upon written request, copies available from: Securities and Exchange Commission, Office of Filings and Information Services, Washington, DC 20549.

Extension

Rule 6h-1, SEC File No. 270-497, OMB Control No. 3235-0555.

Notice is hereby given that pursuant to the Paperwork Reduction Act of 1995,¹ the Securities and Exchange Commission (“Commission”) has submitted to the Office of Management and Budget a request for extension of the previously approved collection of information discussed below.

¹ 44 U.S.C. 3501 et seq.

The Securities Exchange Act of 1934 (“Act”) requires national securities exchanges and national securities associations that trade security futures products to establish listing standards that, among other things, require: (1) Trading in such products not be readily susceptible to price manipulation; and (2) the market trading a security futures product has in place procedures to coordinate trading halts with the listing market for the security or securities underlying the security futures product. Rule 6h-1 under the Act ² implements these statutory requirements and requires national securities exchanges and national securities associations that trade security futures products to: (1) Require cash-settled security futures products to settle based on an opening price rather than a closing price; and (2) require the exchange or association to halt trading in a security futures product for as long as trading in the underlying security, or trading in 30% of the underlying securities, is halted on the listing market.

² 17 CFR 240.6h-1.

It is estimated that approximately 17 respondents will incur an average burden of 10 hours per year to comply with this rule, for a total burden of 170 hours. At an average cost per hour of approximately $197, the resultant total cost of compliance for the respondents is $33,490 per year (17 entities × 10 hours/entity × $197/hour = $33,490).

An agency may not conduct or sponsor, and a person is not required to respond to, a collection of information unless it displays a currently valid control number. Written comments regarding the above information should be directed to the following persons: (a) Desk Officer for the Securities and Exchange Commission by sending an email to david_rostker@omb.eop.gov, and (b) R. Corey Booth, Director/Chief Information Officer, Office of Information Technology, Securities and Exchange Commission, 450 Fifth Street, NW., Washington, DC 20549. Comments must be submitted to the Office of Management and Budget within 30 days of this notice.

Dated: September 22, 2004.
Margaret H. McFarland,
Deputy Secretary.

[FR Doc. E4-2414 Filed 9-29-04; 8:45 am]

BILLING CODE 8010-01-P